ENVIRONMENTAL PROTECTION AGENCY

40 CFR Part 80

[FRL-7132-3]

RIN 2060-AJ69

Amendments to the Requirements on Variability in the Composition of Additives Certified Under the Gasoline Deposit Control Program; Partial Withdrawal of Direct Final Rule

AGENCY: Environmental Protection Agency (EPA).

ACTION: Partial withdrawal of direct final rule.

SUMMARY: With this action, due to the receipt of adverse comments, EPA is withdrawing two of the amendments to the requirements on variability in the composition of additives certified under the gasoline deposit control program that were included in the direct final rule published on November 5, 2001 (66 FR 55885). We will address these comments in a subsequent final action based on the parallel proposal published on November 5, 2001 (66 FR 55905).

DATES: The following provisions of the direct final rule published at 66 FR 55885 (November 5, 2001) are withdrawn as of January 24, 2002.

(1) The revision to 40 CFR 80.162(a)(3)(i)(B), and

(2) The revision to 40 CFR 80.162(a)(3)(ii).

ADDRESSES: Comments and other materials supporting this rulemaking are contained in Public Docket No. A-2001-15, at: Air Docket Section, U.S. Environmental Protection Agency, First Floor, Waterside Mall, Room M-1500, 401 M Street SW., Washington, DC 20460 (Telephone 202-260-7548; Fax 202-260-4400). Dockets may be inspected from 8 a.m. until 12 noon, and from 1:30 p.m. until 3 p.m., Monday through Friday. A reasonable fee may be charged for copying docket materials.

FOR FURTHER INFORMATION CONTACT: Jeff Herzog, U.S. Environmental Protection Agency, Assessment and Standards Division, 2000 Traverwood, Ann Arbor, MI, 48105-2498. Telephone (734) 214-4227; Fax (734) 214-4816; e-mail herzog.jeff@epa.gov.

SUPPLEMENTARY INFORMATION: On November 5, 2001, EPA published a direct final rule entitled “Revisions to the Requirements on Variability in the Composition of Additives Certified Under the Gasoline Deposit Control Program” (66 FR 55885) and a parallel proposed rule (66 FR 55905). This rule was intended to make four revisions to EPA's gasoline deposit control program that were published on July 5, 1996, and became effective August 1, 1997 (61 FR 35309). These notices were published by EPA as a result of a settlement agreement to resolve the Chemical Manufacturer Association's (now the American Chemistry Council) petition for judicial review of specific provisions of the gasoline deposit control program. Because EPA received adverse comment on two specific amendments contained in the direct final rule, we are withdrawing the two amendments on which we received adverse comments. We stated in the direct final rule that if we received adverse comments on one or more distinct amendments, paragraphs, or sections of the direct final rule by January 4, 2001, we would publish a timely withdrawal in the Federal Register indicating which amendments, paragraphs, and sections would become effective and which amendments, paragraphs, or sections would be withdrawn. We received adverse comments on the following two amendments in that direct final rule: the revision to 40 CFR 80.162(a)(3)(i)(B), and the revision to 40 CFR 80.162(a)(3)(ii). We will address these comments in a subsequent final action based on the parallel proposal published on November 5, 2001 (66 FR 55905). As stated in the parallel proposal, we will not institute a second comment period on this action. The following two amendments that did not receive adverse comment will become effective on February 4, 2002, as provided in the November 5, 2001, direct final rule: 40 CFR 80.162(d), and 40 CFR 80.169(c)(4)(i)(C)(2).

List of Subjects in 40 CFR Part 80

Environmental protection, Fuel additives, Gasoline, Motor vehicle pollution, Penalties, Reporting and recordkeeping requirements.

Dated: January 15, 2002.
Robert Brenner,
Acting Assistant Administrator for Office of Air and Radiation.

[FR Doc. 02-1756 Filed 1-23-02; 8:45 am]

BILLING CODE 6560-50-P